DEPARTMENT OF HEALTH AND HUMAN SERVICES

Emergency Awards for Healthcare Under Section 319 of the PHS Act Grants for Immediate Response

AGENCY: Department of Health and Human Services.

ACTION: Notice of availability of funds.

SUMMARY: In order to provide emergency funding for public health assistance related to the terrorist acts that occurred on September 11, 2001, the Department of Health and Human Services (HHS) announces the availability of a competitive grant program. HHS will issue awards that will help pay for healthcare-related costs incurred and/or to be incurred by organizations that have been affected by the attacks of September 11. This special disaster relief initiative will be characterized by a relatively easy process of applying for funds, speedy review and abbreviated administrative procedures. Grant awards will go to recipients rapidly.

Name of Grant Program: Grants for Immediate Response

Program Authorization: Section 319 of the Public Health Service Act, 42 U.S.C. 247d.

Amount of funding available: $35 million. We expect that individual grant awards will range between $5,000 and $1 million.

Eligible Applicants: Public entities, not-for-profit entities, and Medicare and Medicaid enrolled suppliers and institutional providers that incurred healthcare-related expenses or lost revenues as a result of their response to the public health emergency resulting from terrorist acts on September 11, 2001. This includes hospitals, skilled nursing facilities, home health agencies, dialysis facilities, durable medical equipment suppliers, and transportation providers. For the purposes of this program, “response” is defined as immediate actions responding to the attacks, including actions taken by hospitals in implementing their disaster plans in response to State and/or Federal emergency management directives.

Faith-based and community organizations that meet the above criteria and have incurred allowable costs are eligible to receive funding from this program.

Individuals are not eligible for funding under this program.

Allowable costs: Expenses incurred by an eligible applicant in the provision of healthcare-related services that were needed as a direct result of the terrorist acts on September 11, 2001. Personnel costs, supplies, and contractual expenses for healthcare-related services are examples of allowable costs. Capital equipment, repair of public facilities, renovations and alterations, and other capital expenditures essential to the provision of healthcare-related services are also eligible for consideration. Lost or foregone revenues directly attributable to the terrorist acts will also be considered an eligible cost for the purposes of this program.

Costs must directly relate to the provision of healthcare in the affected areas (New York, New Jersey, Connecticut, Virginia, Pennsylvania, Washington, DC).

Allowable costs are costs for which payment and/or reimbursement has not been (and will not be) received and/or the applicant is not eligible for reimbursement. This program is intended to cover only direct costs (i.e., costs that can be specifically identified with a particular project or program). Requests can cover costs incurred on or after September 11, 2001, including those costs expected to be incurred (and which can be reasonably estimated) prior to January 11, 2002.

Costs for which funding is awarded will be subject to verification and validation, including audits by the Office of the Inspector General, after grants are awarded. The grants are also subject to the general provisions applicable to Federal grants awarded by the Department of Health and Human Services (see 45 CFR parts 74 and 92), including applicable cost principles incorporated by those regulations.

For profit organizations should pay particular attention to 45 CFR 74.81, which requires that no HHS funds may be paid as profit to any recipient even if the recipient is a commercial organization.

Unallowable costs: Unallowable costs include, but are not limited to, the following:

Research activities

Political and lobbying activities

Subgrants to other organizations

Purchase of real property

Indirect costs and overhead

Expenses intended to prepare for future similar events

Applicant submission: All applications must be received at the below address before 5:00 PM EDT on October 19, 2001.

Applications must be submitted to the following location:

U.S. Department of Health and Human Services, Health Resources and Services Administration (HRSA), Office of Special Programs, Room 7-100, 5600 Fishers Lane, Rockville, MD 20857

Applications may be faxed to 301 443-1221 or 301 594-6096. In the event the application is faxed, please note a fax and phone number so that a representative from the Office of Special Programs can confirm receipt.

Applications can also be e-mailed to gir@hrsa.gov

For applications that are faxed or e-mailed, if the applicant does not receive confirmation of receipt it should be assumed that the application was not received. For any application that is faxed or e-mailed a hard copy original signed application must also be provided.

Application requirements: Applications should not exceed 10 pages and must be submitted on standard size paper (8.5″ x11″). All application information may be submitted on plain bond paper (i.e., there are no special forms that need to be submitted). All of the following information must be included:

1. Cover sheet which references CFDA #93.003 and includes the following: Date submitted, legal name of applicant, applicant address, employer identification number, name and telephone number of contact person, grant amount requested, Medicare/Medicaid provider number (if applicable). Alternatively, applicants may choose to submit Standard Form 424, Application for Federal Assistance, which can be viewed on line at www.hrsa.gov/osp/gir.htm. This cover sheet must also include the following statement signed by an authorized representative of the applicant: “To the best of my knowledge and belief, all information included in this application is true and correct. The filing of this application has been duly authorized by the governing body of the applicant and the applicant will comply with all required assurances if the assistance is awarded.” [Information on assurances can be viewed on line at www.hrsa.gov/osp/gir.htm.]

Applicant shall provide sufficient detail to ensure that individual recipients of grant funds are clearly identified where they differ from the applicant.

2. Breakdown and justification of expenses and/or lost revenues for which funding is sought.

3. The need for the funding and the impact on the organization if funding is not received.

4. Expenses and/or revenues that would have been expected if there were no terrorist acts and the actual level of expenses and/or revenues covering the period for which funding is requested. Funding can be sought for a combination of lost revenues and increased expenses; in such cases clearly delineate the amount attributable to lost revenue and the amount attributable to increased expenses.

If there is not a clear and direct link between the services provided/expenses incurred/revenues lost and the terrorist acts, provide an explanation of the relationship.

5. The manner/methodology by which any increased expense or lost revenue estimates were determined. If such information is not readily available, please indicate how any estimates were derived.

6. Location where the services for which funding is sought were provided.

7. Statement from an authorized representative of the applicant confirming that the applicant is a public or not-for-profit organization, if applicable.

8. Listing of any additional Federal, State, or private agencies or organizations from which funding relief has been sought in relation to the September 11, 2001, terrorist acts (e.g., FEMA, Red Cross). Amount of funding requested and description/explanation of basis for any such request.

9. Statement/assurance from an authorized representative of the applicant that:

a. Expenses/lost revenues for which grant funding is sought are not eligible for reimbursement and/or payment from Medicare, Medicaid, FEMA;

b. Reimbursement and/or payment will not be sought from Medicare, Medicaid, or FEMA for any expenses/lost revenues covered by the grant;

c. Grant funds will be not used to supplant any Federal or non-Federal funds that are received for the activities or purposes for which funding is sought; and

d. If the applicant has sought funding from another source for the same expenses and/or lost revenues and is uncertain as to whether such request(s) will be approved, it must include an assurance that if that funding is received, funding from this program will be returned.

Review Criteria

1. Demonstration that costs or lost revenues were for healthcare-related services or will be used for such services. This includes a clear explanation of the services provided/or to be provided, including a clear differentiation between “normal” services and any incremental services needed because of the terrorist acts.

2. Demonstration that the services/expenses/lost revenues for which the grant is sought are directly associated with terrorist acts on September 11, 2001.

3. Reasonableness of estimates and clarity of methodology used to support cost estimates for which funding is sought.

4. Extent to which funds will rapidly be made available for the provision of needed healthcare.

5. Urgency and nature of need for the funds.

6. Impact on the organization if funding is not received.

Program Contact Person: Mr. Timothy Miller, Executive Officer, HRSA Office of Special Programs, Room 7-100, 5600 Fishers Lane, Rockville, MD 20857, 301 443-4268 (phone), 301 443-1221 (fax), tmiller@hrsa.gov (e-mail)

Dated: October 4, 2001.
Tommy G. Thompson,
Secretary.

[FR Doc. 01-25461 Filed 10-5-01; 9:28 am]

BILLING CODE 4165-15-P